DEPARTMENT OF VETERANS AFFAIRS

[OMB Control No. 2900-0101]

Agency Information Collection Activity Under OMB Review: Eligibility Verification Reports (EVRs)

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden and it includes the actual data collection instrument.

DATES: Comments must be submitted on or before April 27, 2018.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0101” in any correspondence.

FOR FURTHER INFORMATION CONTACT: Cynthia Harvey-Pryor, Office of Quality, Privacy and Risk, Department of Veterans Affairs, 811 Vermont Avenue, Floor 5, Area 368, Washington, DC 20420, (202) 461-5870 or email cynthia.harvey-pryor@va.gov. Please refer to “OMB Control No. 2900-0101” in any correspondence.

SUPPLEMENTARY INFORMATION:

Authority: 38 U.S.C. 1506.

Title: Eligibility Verification Reports (EVRs): VA Forms 21P-0510, 21P-0510 (Spanish), 21P-0512S-1, 21P-0512S-1 (Spanish), 21P-0512V-1, 21P-0513-1, 21P-0513-1 (Spanish), 21P-0514-1, 21P-0514-1 (Spanish), 21P-0516-1, 21P-0516-1 (Spanish), 21P-0517-1, 21P-0517-1 (Spanish), 21P-0518-1, 21P-0518-1 (Spanish), 21P-0519C-1, 21P-0519C-1 (Spanish), 21P-0519S-1, 21P-0519S-1 (Spanish).

OMB Control Number: 2900-0101.

Type of Review: Revision of a currently approved collection.

Abstract: Information is requested by this form under the authority of 38 U.S.C. 1506. Regulatory authority is found in 38 CFR 3.277. A claimant's eligibility for pension is determined, in part, by countable family income and net worth. Any individual who has applied for, or receives, VA Pension or Parents' Dependency and Indemnity Compensation (DIC) must promptly notify VA in writing of any change in entitlement factors.

VBA uses Eligibility Verification Reports to receive income and net worth information from Pension and Parents DIC claimants and beneficiaries to evaluate eligibility to benefits. The reported information can result in increased or decreased benefits. Typically, claimants and beneficiaries utilize the form to inform VA of changes in their income or net worth, though the forms could also be used to reopen a claim for benefits in limited circumstances.

An agency may not conduct or sponsor, and a person is not required to respond to a collection of information unless it displays a currently valid OMB control number. The Federal Register Notice with a 60-day comment period soliciting comments on this collection of information was published at 83 FR 2878 on January 19, 2018, page 2878.

Affected Public: Individuals and households.

Estimated Annual Burden: 34,500 hours.

Estimated Average Burden per Respondent: 30 minutes.

Frequency of Response: Once.

Estimated Number of Respondents: 69,000.

By direction of the Secretary.
Cynthia Harvey-Pryor,
Department Clearance Officer, Office of Quality and Compliance, Department of Veterans Affairs.

[FR Doc. 2018-06156 Filed 3-27-18; 8:45 am]

BILLING CODE 8320-01-P